DEPARTMENT OF TRANSPORTATION

Federal Aviation Administration

14 CFR Part 71

[Docket No. FAA-2021-1031; Airspace Docket No. 21-ASO-14]

RIN 2120-AA66

Amendment and Removal of VOR Federal Airways V-18, V-115, V-222, V-241, V-245, V-311, V-321, V-325, V-333, V-415, V-417, and V-463 in the Southeastern United States

AGENCY: Federal Aviation Administration (FAA), DOT.

ACTION: Final rule.

SUMMARY: This action amends five VHF Omnidirectional Radar (VOR) Federal airways, V-18, V-222, V-245, V-325, and V-417 in association with the VOR Minimum Operation Network (MON) project in the southeastern United States. This action is necessary due to the planned decommissioning of the following ground-based NAVAIDs: Atlanta, GA, (ATL) VOR Tactical Air Navigational System (VORTAC); Crimson, AL, (LDK) VORTAC; and Macon, GA, (MCN) VORTAC. The following airways are removed from this docket and will be addressed in a subsequent docket action at a later date: V-115, V-241, V-311, V-321, V-333, V-415, and V-463.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

History

The FAA published a notice of proposed rulemaking for Docket No. FAA-2021-1031 in the Federal Register (86 FR 70989, December 14, 2021), to amend seven VOR Federal airways and remove five airways in the southeastern United States. Interested parties were invited to participate in this rulemaking effort by submitting written comments on the proposal. No comments were received.

Domestic VOR Federal airways are published in paragraph 6010(a) of FAA Order JO 7400.11F, dated August 10, 2021 and effective September 15, 2021, which is incorporated by reference in 14 CFR 71.1. The VOR Federal airways listed in this document will be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

This rule includes changes to the VOR Federal airways proposed in the NPRM to enable ongoing review by the Department of Defense. So as to avoid the premature removal of route segments, only those structural changes necessary due to the scheduled decommissioning of the Atlanta, GA, (ATL); Crimson, AL, (LDK), and Macon, GA, (MCN) VORs are included in this rule.

The following routes are removed from this rule: V-115, V-421, V-311, V-321, V-333, V-415, and V-463. These routes will be addressed in a subsequent docket action at a later date. The NPRM proposed the removal of V-325 and V-417. Instead, these routes will be retained and amended in this rule. V-245 is amended as proposed in the NPRM. The following are changes from NPRM:

V-18: The NPRM proposed to remove the segments from the Crimson, AL, (LDK) VORTAC to Vulcan, AL, and the segment from Colliers, SC, to Charleston, SC. The FAA has decided to retain the segment From Colliers, SC, to Charleston, SC.

V-222: The NPRM proposed to terminate V-222 at Montgomery, AL. Instead, the FAA has decided to terminate V-222 at the TIROE intersection, as currently charted.

V-325: V-325 currently extends from the Columbia, SC, (CAE) VORTAC, to the Muscle Shoals, AL, (MSL) VORTAC. The NPRM proposed to remove the entire route. The FAA has decided to retain V-325 and amend it as follows: From Columbia, SC, to Athens, GA; and From INT Gadsden, AL, 091° and Rome, GA, 133° radials; to INT Vulcan, AL, 013° and Gadsden 302° radials.

V-417: V-417 currently extends from the Meridian, MS, (MEI) VORTAC to the Charleston, SC, (CHS) VORTAC. The NPRM proposed to remove the entire route. The FAA has decided to retain V-417 and amend it as follows: From Vulcan, AL; Rome, GA; to INT Rome 060° and Hinch Mountain, TN, 160° radials. From Athens, GA; Colliers, SC; Allendale, SC; to Charleston, SC.

The Rule

This action amends 14 CFR part 71 by modifying V-18, V-222, V-245, V-325, and V-417.

V-18: V-18 is amended by removing the segment between Crimson, AL, and Vulcan, AL. The amended route extends between Belcher, LA and Meridian, MS; and between Colliers, SC, and Charleston, SC.

V-222: V-222 is amended by removing the segments from the intersection of the Foothills, SC, and the Harris, GA, radials to Lynchburg, VA. The amended route extends from El Paso, TX to the intersection of the La Grange, GA, 048° and the Rome, GA, 166° radials (the charted TIROE Intersection).

V-325: V-325 is amended to extend from Columbia, SC to Athens, GA; and from the intersection of the Gadsden, AL 091° and the Rome, GA 133° radials; to the intersection of the Vulcan, AL, 013° and the Gadsden 302° radials.

V-417: V-417 is amended by removing the segments from Meridian, MS, to Crimson, AL. The amended route consists of two parts: From Vulcan, AL, to the intersection of the Rome, GA, 060°, and the Hinch Mountain, TN, 160° radials (the charted NELLO intersection); and From Athens, GA, to Charleston, SC.

Full route descriptions of the above routes are listed in “The Amendment” section of this rule.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending five VOR Federal airways, in the southeastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 6010(a) Domestic VOR Federal Airways.

* * * * *

V-18 [Amended]

From Belcher, LA; Monroe, LA; Magnolia, MS; to Meridian, MS. From Colliers, SC; to Charleston, SC

* * * * *

V-222 [Amended]

From El Paso, TX, via Salt Flat, TX; Fort Stockton, TX; 20 miles, 116 miles, 55 MSL, Junction, TX; Stonewall, TX; INT Stonewall 113° and Industry, TX, 267° radials; Industry; INT Industry 101° and Humble 259° radials; Humble; Beaumont, TX; Lake Charles, LA; McComb, MS; Eaton, MS; Monroeville, AL; Montgomery, AL; LaGrange, GA; to INT LaGrange 048° and Rome, GA, 166° radials .

* * * * *

V-245 [Amended]

From Alexandria, LA, via Natchez, MS; Magnolia, MS; to Bigbee, MS.

* * * * *

V-325 [Amended]

From Columbia, SC to Athens, GA. From INT Gadsden, AL, 091° and Rome, GA, 133° radials; Gadsden; to INT Vulcan, AL 013° and Gadsden 302° radials.

* * * * *

V-417 [Amended]

From Vulcan, AL; Rome, GA; to INT Rome 060° and Hinch Mountain, TN, 160° radials. From Athens, GA; Colliers, SC; Allendale, SC; to Charleston, SC.

* * * * *

Issued in Washington, DC, on April 28, 2022.
Scott M. Rosenbloom,
Manager, Airspace Rules and Regulations.

[FR Doc. 2022-09440 Filed 5-5-22; 8:45 am]

BILLING CODE 4910-13-P